DEPARTMENT OF VETERANS AFFAIRS

38 CFR Part 19

RIN 2900-AK61

Appeals Regulations: Title for Members of the Board of Veterans' Appeals—Rescission

AGENCY: Department of Veterans Affairs.

ACTION: Final rule.

SUMMARY: In a document published in the Federal Register on September 14, 2000 (65 FR 55461), we amended the Department of Veterans Affairs (VA) Appeals Regulations by providing that a Member of the Board of Veterans' Appeals (Board) may also be known as a Veterans Law Judge. Consistent with legal authority, we published the amendment without providing an opportunity for notice-and-comment.

On October 27, 2000, six veterans service organizations wrote to the Acting Secretary, opposing the amendment and arguing that they should have been provided an opportunity to comment before we made such a change. Under these circumstances, we agreed to rescind the amendment and propose to reestablish the amendment. Accordingly, this document rescinds the amendment. In a companion document in the “Proposed Rules” section of this issue of the Federal Register, we are proposing to amend the regulations to again provide that a Member of the Board may also be known as a Veterans Law Judge.

DATES: Effective Date: March 6, 2001.

FOR FURTHER INFORMATION CONTACT: Steven L. Keller, Senior Deputy Vice Chairman, Board of Veterans' Appeals (01C), Department of Veterans Affairs, 810 Vermont Avenue, NW., Washington, DC 20420 (202-565-5978).

SUPPLEMENTARY INFORMATION: This final rule concerns agency organization, procedure or practice and is not a substantive rule. Accordingly, this final rule is exempt from the notice-and-comment requirements and the delayed effective date provisions of 5 U.S.C. 553.

Paperwork Reduction Act

This document contains no provisions constituting a collection of information under the Paperwork Reduction Act (44 U.S.C. 3501-3520).

Executive Order 12866

This document has been reviewed by the Office of Management and Budget under Executive Order 12866.

Regulatory Flexibility Act

The Secretary hereby certifies that this final rule will not have a significant economic impact on a substantial number of small entities as they are defined in the Regulatory Flexibility Act, 5 U.S.C. 601-612. This rule will not affect small businesses. Therefore, pursuant to 5 U.S.C. 605(b), this final rule is exempt from the initial and final regulatory flexibility analyses requirements of sections 603 and 604.

List of Subjects in 38 CFR Part 19

Administrative practice and procedure, Claims, Veterans.

Dated: February 21, 2001.
Anthony J. Principi,
Secretary of Veterans Affairs.

For the reasons set out in the preamble, 38 CFR part 19 is amended as set forth below:

PART 19—BOARD OF VETERANS' APPEALS: APPEALS REGULATIONS

1. The authority citation for part 19 continues to read as follows:

Authority: 38 U.S.C. 501(a), unless otherwise noted.

2. Section 19.2 is revised to read as follows:

§ 19.2 Composition of the Board.

The Board consists of a Chairman, Vice Chairman, Deputy Vice Chairmen, Members and professional, administrative, clerical and stenographic personnel. Deputy Vice Chairmen are Members of the Board who are appointed to that office by the Secretary upon the recommendation of the Chairman.

Authority: 38 U.S.C. 501(a), 512, 7101(a))

[FR Doc. 01-5451 Filed 3-5-01; 8:45 am]

BILLING CODE 8320-01-P